DEPARTMENT OF HOMELAND SECURITY

Bureau of Customs and Border Protection

Automated Commercial Environment (ACE): National Customs Automation Program Test of Automated Truck Manifest for Truck Carrier Accounts; Deployment Schedule

AGENCY: Customs and Border Protection; Department of Homeland Security.

ACTION: General notice.

SUMMARY: The Bureau of Customs and Border Protection, in conjunction with the Department of Transportation, Federal Motor Carrier Safety Administration, is currently conducting a National Customs Automation Program (NCAP) test concerning the transmission of automated truck manifest data. This document announces the next two groups, or clusters, of ports to be deployed for this test.

DATES: Effective Dates: The ports identified in this notice, in the state of Texas, are expected to deploy in two clusters no earlier than January 2006, as provided in this notice. Comments concerning this notice and all aspects of the announced test may be submitted at any time during the test period.

FOR FURTHER INFORMATION CONTACT: Mr. James Swanson via e-mail at James.Swanson@dhs.gov.

SUPPLEMENTARY INFORMATION:

Background

The National Customs Automation Program (NCAP) test concerning the transmission of automated truck manifest data for truck carrier accounts was announced in a General Notice published in the Federal Register (69 FR 55167) on September 13, 2004. That notice stated that the test of the Automated Truck Manifest would be conducted in a phased approach, with primary deployment scheduled for no earlier than November 29, 2004. The document identified the ports of Blaine, Washington, and Buffalo, New York, as the original deployment sites.

The September 13, 2004, notice stated that subsequent deployment of the test would occur at Champlain, New York; Detroit, Michigan; Laredo, Texas; Otay Mesa, California; and Port Huron, Michigan, on dates to be announced. The notice stated that the Bureau of Customs and Border Protection (CBP) would announce the implementation and sequencing of truck manifest functionality at these ports as they occur and further stated that additional participants and ports would be selected throughout the duration of the test. The test is to be expanded eventually to include ACE Truck Carrier Account participants at all land border ports, and subsequent releases of ACE will include all modes of transportation.

Implementation of the Test

The test commenced in Blaine, Washington in December 2004, but not at Buffalo, New York. In light of experience with the implementation of the test in Blaine, Washington, CBP decided to change the implementation schedule and published a General Notice in the Federal Register on May 31, 2005 (70 FR 30964) announcing the changes.

As noted in the May 31, 2005, General Notice, the next deployment sites will be brought up as clusters. In some instances, one site in the cluster will be identified as the “model site” or “model port” for the cluster. This deployment strategy will allow for more efficient equipment set-up, site checkouts, port briefings and central training.

The ports identified belonging to the first cluster announced in the May 31, 2005, notice included the original port of implementation: Blaine, Washington. Sumas, Washington, was designated as the model port. The other ports of deployment in the cluster included the following: Point Roberts, WA; Oroville, WA (including sub ports); Boundary, WA; Danville, WA; Ferry, WA; Frontier, WA; Laurier, WA; Metaline Falls, WA; Nighthawk, WA; and Lynden, WA.

In a notice published in the Federal Register (70 FR 43892) on July 29, 2005, CBP announced that the test was being further deployed, in two clusters, at ports in the States of Arizona and North Dakota. CBP stated that the test would be deployed at the following ports in Arizona as of July 25, 2005: Douglas, AZ; Naco, AZ; Lukeville, AZ; Sasabe, AZ; and Nogales, AZ. Douglas, AZ was designated as the model port. The test was also to be deployed, according to information provided in the notice, at the following ports in North Dakota as of August 15, 2005: Pembina, ND; Neche, ND; Noyes, ND; Walhalla, ND; Maida, ND; Hannah, ND; Sarles, ND; and Hansboro, ND. Pembina, ND, was designated as the model port.

In a General Notice published in the Federal Register (70 FR 60096) on October 14, 2005, CBP announced that the test was to be further deployed in a cluster of ports, in the State of Michigan, no earlier than the dates indicated as follows (all in the year 2005): Windsor Tunnel, October 4; Barge Transport, October 5; Ambassador Bridge, October 7; Port Huron, October 14; Marine City, October 18; Algonac, October 18; and Sault St. Marie, October 28. No port in this cluster was designated as a “model port.”

New Clusters

Through this notice, CBP announces the next two clusters of ports to be brought up for purposes of implementation of the test. The test will be deployed at the following cluster of ports no earlier than January 2006: Eagle Pass, Texas and Del Rio, Texas. The test will also be deployed no earlier than January 2006 at the following cluster of ports: Brownsville, Texas; Pharr, Texas; Progresso, Texas; Rio Grande City, Texas; and Roma, Texas. No ports in these clusters are designated as “model ports.”

Previous NCAP Notices Not Concerning Deployment Schedules

On Monday, March 21, 2005, a General Notice was published in the Federal Register (70 FR 13514) announcing a modification to the NCAP test to clarify that all relevant data elements are required to be submitted in the automated truck manifest submission. That notice did not announce any change to the deployment schedule and is not affected by publication of this notice. All requirements and aspects of the test, as set forth in the September 13, 2004 notice, as modified by the March 21, 2005 notice, continue to be applicable.

Dated: January 12, 2006.
William S. Heffelfinger III,
Acting Assistant Commissioner, Office of Field Operations.

[FR Doc. 06-620 Filed 1-23-06; 8:45 am]

BILLING CODE 9111-14-P